DEPARTMENT OF ENERGY

Federal Energy Regulatory Commission

[Docket No. EL11-46-000]

NextEra Energy Resources, LLC, Peetz Logan Interconnect, LLC, PWEC, LLC; Notice of Petition for Declaratory Order

Take notice that on June 20, 2011, pursuant to Rule 207 of the Rules of Practice and Procedure of the Federal Energy Regulatory Commission (FERC or Commission), NextEra Energy Resources, LLC (NextEra) and two of its indirect subsidiaries, Peetz Logan Interconnect, LLC (PLI) and PWEC, LLC (PWEC), collectively filed a petition for declaratory order to confirm the priority rights of PWEC to capacity over the radial line constructed by PLI to interconnect NextEra's new wind-powered generation to the integrated transmission grid. The radial facilities over which this priority access confirmation is sought include an approximately 78.2 mile, 230 kV radial transmission line and related equipment and facilities owned by PLI (collectively, the PLI Facilities). For the convenience in this petition, all of NextEra's Logan County, Colorado projects collectively are hereinafter referred to as the Logan County Wind Projects, which include Logan Wind Energy, LLC, Peetz Table Wind Energy, LLC, and Northern Colorado Wind Energy, LLC.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 21, 2011.

Dated: June 21, 2011.
Kimberly D. Bose,
Secretary.

[FR Doc. 2011-16181 Filed 6-27-11; 8:45 am]

BILLING CODE 6717-01-P